DEPARTMENT OF THE INTERIOR

Bureau of Reclamation

Review of Existing Coordinated Long-Range Operating Criteria for Colorado River Reservoirs (Operating Criteria)

AGENCY: Bureau of Reclamation (Reclamation), Interior.

ACTION: Notice of proposed decision regarding the operating criteria and announcement of public consultation meeting.

SUMMARY: The purpose of this action is to provide notice of a public consultation meeting. In addition, based on information submitted for review by the Department of the Interior, Reclamation is proposing that the Secretary of the Interior (Secretary) make a number of identified modifications to the text of the Operating Criteria developed pursuant to Section 602 of the Colorado River Basin Project Act of 1968. The bases for the proposed changes are: (1) Specific changes in Federal law applicable to the Operating Criteria, (2) language in the current text of the Operating Criteria that is outdated, and (3) specific modifications to Article IV(b) of the Operating Criteria that reflect actual operating experience.

DATES: To receive input on the proposed decision regarding specific limited changes to the Operating criteria, Reclamation will conduct a public consultation meeting in Henderson, Nevada. The meeting will be held at the following time and location:

• November 19, 2004—9 a.m. to 1 p.m. at the Henderson Convention Center, 200 South Water Street, Henderson, Nevada.

All comments relevant to the proposed decision should be received no later than December 6, 2004.

ADDRESSES: Interested parties should send comments or questions to: Regional Director, Attention: BCOO-4600, Bureau of Reclamation, Lower Colorado Region, P.O. Box 61470, Boulder City, Nevada 89006-1470.

FOR FURTHER INFORMATION CONTACT: Jayne Harkins, Bureau of Reclamation, Lower Colorado Region, P.O. Box 61470, Boulder City, Nevada 89006-1470; telephone (702) 293-8411; faxogram (702) 293-8614; e-mail: jharkins@lc.usbr.gov; or Tom Ryan, Bureau of Reclamation, Upper Colorado Region, 125 South State Street, Room 6107, Salt Lake City, Utah 84138-1147; telephone (801) 524-3732; faxogram (801) 524-5499; e-mail: tryan@uc.usbr.gov.

SUPPLEMENTARY INFORMATION: The public review process began with a Federal Register Notice published on January 15, 2002, announcing the sixth review of the Operating Criteria and inviting comments regarding whether the Operating Criteria should be modified, and if so, how they should be modified. The January 15, 2002, Notice provided for a comment period that ended on March 18, 2002. On March 6, 2002, a second Notice was published in the Federal Register extending the comment period to March 29, 2002, and inviting public feedback on whether or not Reclamation should conduct a public meeting to solicit comments as part of the sixth review of the Operating Criteria. A letter was then sent to all interested parties, tribes, and stakeholders on March 7, 2002, that included copies of both Federal Register Notices and the Operating Criteria.

On June 27, 2002, a Fact Sheet providing information on the Operating Criteria, scope of the review process, public participation, timeline for the review process, and contact information was sent to all interested parties and stakeholders. In addition to the Fact Sheet, Reclamation set up a Web site (http://www.usbr.gov/lc/region/g4000/lroc) for the sixth review of the Operating Criteria that contained further information on the review, copies of all comment letters received, and links to technical documents Reclamation felt would be useful during the review process.

Detailed written comments were received from 16 interested parties providing Reclamation with numerous issues, comments, and concerns regarding possible changes to the Operating Criteria. The comment letters were posted on the Operating Criteria Web site in May 2002 and have been reviewed by Reclamation for identification and analysis of the issues.

As required by Federal law, formal consultation with the representatives of the seven Basin States, and with members of the general public, was conducted during this review of the Operating Criteria. The January 15, 2002, Federal Register Notice stated that open public meetings would be conducted as part of this review, and in the March 6, 2002, Federal Register Notice, Reclamation asked for comments on whether or not a public meeting should be held. At the end of the comment period (March 29, 2002), several of those who provided comments stated that a public meeting to solicit comments on the need to revise the Operating Criteria was not needed. Accordingly, Reclamation did not conduct a public meeting at that point in the review process. However, pursuant to this Federal Register Notice, a public consultation meeting will be conducted on November 19, 2004, allowing interested parties and the general public an opportunity to provide comments on the proposed changes to the Operating Criteria identified in this Federal Register Notice. This meeting will be considered a consultation with the States, interested parties, and stakeholders, as well as government-to-government consultation with tribal representatives.

Following analysis of any additional comments received as a result of this Notice, any proposed Federal action will be evaluated by Reclamation to determine the applicability of National Environmental Policy Act compliance. A final Secretarial decision regarding this five-year review will be published in the Federal Register.

Public Disclosure

It is Reclamation's practice to make comments, including names and home addresses of respondents, available for public review. Individual respondents may request that we withhold their home address from public disclosure, which we will honor to the extent allowable by law. There also may be circumstances in which we would withhold a respondent's identify from public disclosure, as allowable by law. If you wish us to withhold your name and/or address, you must state this prominently at the beginning of your comment. We will make all submissions from organizations or businesses, and from individuals identifying themselves as representatives or officials of organizations or businesses, available for public disclosure in their entirety.

Background: The Operating Criteria, promulgated pursuant to Section 602 of the 1968 Colorado River Basin Project Act (Pub. L. 90-537), were published in the Federal Register on June 10, 1970 (35 FR 8951). In order to comply with and carry out the provisions of the Colorado River Compact, the Upper Colorado River Basin Compact, and the Mexican Water Treaty, the Operating Criteria provide for the coordinated long-range operation of the reservoirs constructed and operated under the authority of the Colorado River Storage Project Act and the Boulder Canyon Project Act.

The Operating Criteria state that the Secretary will sponsor a formal review of the Operating Criteria at least every five years with participation by Colorado River Basin State representatives as each Governor may designate and other parties and agencies as the Secretary may deem appropriate. As required by Pub. L. 102-575 (the Grand Canyon Protection Act of 1992), the Secretary also consults in this review process with the general public including representatives of academic and scientific communities, environmental organizations, the recreation industry, and contractors for the purchase of federal power produced at Glen Canyon Dam.

Previous reviews of the Operating Criteria were conducted in 1975, 1980, 1985, 1990, and 1995. These reviews did not propose any changes to the Operating Criteria. Prior to 1990, reviews were conducted primarily through meetings with and correspondence among representatives of the seven Basin States and Reclamation. Because the long-range operation of the Colorado River Reservoirs is important to many agencies and individuals, in 1990, through an active public involvement process, Reclamation expanded the review of the Operating Criteria to include all interested stakeholders. A team consisting of Reclamation staff from Salt Lake City, Utah, and Boulder City, Nevada, was organized to conduct the 1995 review. For this review, Reclamation staff from Boulder City and Salt Lake City followed a similar public process.

The scope of the review has been consistent with the statutory purposes of the Operating Criteria which are “to comply with and carry out the provisions of the Colorado River Compact, Upper Colorado River Basin Compact, and Mexican Water Treaty” 43 U.S.C. 1552(a). Long-range operations generally refer to the planning of reservoir operations over several decades, as opposed to the Annual Operating Plan which details specific reservoir operations for the next operating year, as required by 43 U.S.C. 1552(b).

Proposed Modifications to the Operating Criteria: As a result of this review, Reclamation is proposing the following modifications to the Operating Criteria (additions are shown with highlighted text and deletions are shown with a line):

BILLING CODE 4310-MN-M

BILLING CODE 4310-MN-C

Proposed Decision: The Department of the Interior has considered the comments received during this review of the Operating Criteria. After a careful review of the comments received, solicitation of public review to Reclamation's responses, and consultation with the Governor's representatives of the seven Basin States, Reclamation is proposing that the Secretary of the Interior make a number of identified modifications to the text of the Operating Criteria. The bases for the proposed changes are (1) specific changes in Federal law applicable to the Operating Criteria, (2) language in the current text of the Operating Criteria that is outdated, and (3) specific modifications to Article IV(b) of the Operating Criteria that reflect actual operating experience.

Dated: September 28, 2004.
William E. Rinne,
Deputy Commissioner, Bureau of Reclamation.

[FR Doc. 04-24552 Filed 11-2-04; 8:45 am]

BILLING CODE 4310-MN-M